DEPARTMENT OF DEFENSE

Department of the Army

Prospective Grant of an Exclusive License

AGENCY: U.S. Army Soldier and Biological Chemical Command (SBCCOM), DoD.

ACTION: Notice of intent.

SUMMARY: In accordance with the provisions of 15 U.S.C. 209(c)(1) and 37 CFR part 404.7(a)(1)(I), SBCCOM hereby gives notice that it is contemplating the grant of an exclusive license in the United States to practice the invention embodied in U.S. Provisional Patent Application Number 60/298,858, filed 6/15/01, entitled, “Photovoltaic Cell” to University of Massachusetts, Lowell having a place of business in Lowell, Massachusetts.

FOR FURTHER INFORMATION CONTACT: Mr. Robert Rosenkrans at U.S. Army Soldier and Biological Chemical Command, Kansas Street, Natick, MA 01760, Phone; (508) 233-4928 or e-mail Robert.rosenkrans@natick.army.mil.

SUPPLEMENTARY INFORMATION: The prospective exclusive license will be royalty bearing and will comply with the terms and conditions of 35 U.S.C. 209 and 37 CFR 404.7. The prospective exclusive license may be granted, unless within fifteen (15) days from the date of this published Notice, SBCCOM receives written evidence and argument to establish that the grant of the license would not be consistent with the requirements of 35 U.S.C. 209 and 37 CFR 404.7. The following Patent Number, Title and Issue date is provided:

Provisional Patent Application Number: 60/298,858.

Title: Photovoltaic Cell.

Filing Date: June 15, 2001.

Luz D. Ortiz,
Army Federal Register Liaison Officer.

[FR Doc. 01-26193 Filed 10-17-01; 8:45 am]

BILLING CODE 3710-08-M